DEPARTMENT OF THE INTERIOR

National Park Service

Jamestown Project Development Concept Plan, Draft Environmental Impact Statement, Colonial National Historical Park, Jamestown Unit, Jamestown, VA, and Jamestown National Historic Site, Jamestown, VA

AGENCY: National Park Service, Department of the Interior.

ACTION: Notice of availability of the draft environmental impact statement for the Jamestown Project Development Concept Plan, Colonial National Historical Park, Jamestown Unit, and Jamestown National Historic Site.

SUMMARY: Pursuant to the National Environmental Policy Act of 1969, 42 U.S.C. 4332(c), the National Park Service announces the availability of a draft Environmental Impact Statement for the Jamestown Project Development Concept Plan, Colonial National Historical Park, Jamestown Unit, Jamestown, Virginia, and Jamestown National Historic Site, Jamestown, Virginia.

DATES: The National Park Service will accept comments from the public on the Draft Environmental Impact Statement for 60 days after publication of this notice. A public meeting will be held within the 60 day period, on September 12, 2002 between 3 pm and 9 pm at the Williamsburg Community Building, 401 North Boundary Street, Williamsburg, VA.

ADDRESSES: Information will be available for public review and comment in the office of the Superintendent, Colonial National Historical Park, Yorktown, Virginia, in the administrative offices located below the Yorktown Visitor Center. It will also be available at the following locations: Jamestown Visitor Center, Jamestown, Virginia, Colonial National Historical Park; Gloucester County Library, 6382 Main Street, Glouscester, VA 23061; Hampton City Library, 936 Big Bethel Road, Hampton, VA 23666; James City County Library, 7770 Croaker Road, Williamsburg, VA 23188; John D. Rockefeller, Jr. Library, 313 1st Street, Williamsburg, VA 23185; Newport News City Library, 700 Town Center Drive, Suite 300, Newport News, VA 23606; Surry County Library, 11640 Rolfe Highway, Surry, VA 23883; Williamsburg Regional Library, 515 Scotland Street, Williamsburg, VA 23185; York County Public Library, 8500 George Washington Highway, Yorktown, VA 23692.

FOR FURTHER INFORMATION CONTACT: Mike Litterst, Information Officer, Colonial National Historical Park, 757/898-2409.

SUPPLEMENTARY INFORMATION: If you wish to comment, you may submit your comments by any one of several methods. You may mail comments to Alec Gould, Superintendent, Colonial National Historical Park, P.O. Box 210, Yorktown, VA 23690. You may also comment via the Internet to www.nps.gov/colo. Please submit Internet comments as an ASCII file avoiding the use of special characters and any form of encryption. Please also include “Attn: Jamestown Project” and your name and return address in your Internet message. Finally, you may hand-deliver comments to the office of the Superintendent, Colonial National Historical Park, Yorktown, Virginia, in the administrative offices located below the Yorktown Visitor Center. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: July 12, 2002.
Patricia Phelan,
Acting Director, Northeast Region, National Park Service.

[FR Doc. 02-19095 Filed 7-26-02; 8:45 am]

BILLING CODE 4310-70-P